DEPARTMENT OF ENERGY

Federal Energy Regulatory Commission

[Project No. 2660-029]

Woodland Pulp LLC; Notice of Petition for Declaratory Order and Soliciting Comments, Protests, and/or Motions To Intervene

Take notice that the following application has been filed with the Commission and is available for public inspection:

a. Application Type: Petition for Declaratory Order.

b. Project No: 2660-029.

c. Date Filed: July 27, 2017.

d. Applicant: Woodland Pulp, LLC.

e. Name of Project: Forest City Project.

f. Location: On the East Branch of the St. Croix River in Washington and Aroostook Counties, Maine.

g. Filed Pursuant to: Section 23(b)(1) of the Federal Power Act, 16 U.S.C. 817(b) (2012).

h. Applicant Contact: Mr. Scott Beal, Woodland Pulp, LLC, 144 Main Street, Baileyville, ME 04694, Tel: 207-427-4004.

i. FERC Contact: Any questions on this notice should be addressed to Mr. M. Joseph Fayyad, (202) 502-8759, or email: Mo.Fayyad@ferc.gov.

j. Deadline for filing comments, protests, and motions to intervene is: 30 days from the issuance date of this notice by the Commission. The Commission strongly encourages electronic filing. Please file comments, protests, and motions to intervene using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2660-029.

k. Description of Project: The Forest City Project is located at river mile 58 of the East Branch of the St. Croix River on the international boundary between the United States and Canada. The existing project as licensed includes only the lands, waters, and structures that are located in the United States, which consist of: (a) A 147-foot-long section of the 540-foot-long, 12-foot-high earthen Forest City Dam that includes: (i) A 110-foot-long west earthen embankment, and (ii) a 37-foot-long section of the timber-crib spillway section with two 8.3-foot-wide, 10-foot-high spillway gates on the west side of the spillway, which control the impoundment between a minimum elevation of 427.94 feet mean sea level (msl) and a maximum elevation of 434.94 feet msl; (b) a 9,141-acre portion of the 17,040-acre multi-lake impoundment (North Lake and East Grand Lake); and (c) appurtenant facilities. The project does not occupy federal lands and there are no generating facilities located at the project. The Forest City Project supplies water to the unlicensed downstream Grand Falls and Woodland hydroelectric projects.

In November 2015, the Commission issued Woodland Pulp a new license to operate and maintain the Forest City Project. In December 2016, Woodland Pulp filed an application to surrender its new license and decommission the project by removing the gates located on the United States side of the spillway. The Commission is considering the licensee's surrender and decommissioning proceeding in Project No. 2660-028.

On July 24, 2017, Governor LePage of Maine signed into law a resolve authorizing Maine Department of Inland Fisheries and Wildlife (Maine DIFW) to assume ownership of the Forest City Dam pursuant to two conditions: (1) The Commission finds that the Forest City Project will not require a license from the Commission if Maine DIFW owns the U.S. portion of the dam; and (2) Maine DIFW executes an agreement with Woodland Pulp that provides that Woodland Pulp and its successors will operate and maintain the Forest City Dam consistent with the manner in which the dam was operated in most recent 12 months, at the direction of the State, and at no cost to the State, for a period of 15 years. On July 27, 2017, Maine DIFW and Woodland Pulp executed an operation and management agreement.

l. Description of Request: The licensee requests the Commission to find that the Forest City Project will not be necessary or appropriate for any downstream unit of development if the licensee transfers the dam to the Maine Department of Inland Fisheries and Wildlife, and will therefore no longer be required to be licensed pursuant to section 23(b)(1) of the Federal Power Act.

m. Locations of the Application: This filing may be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above and in the Commission's Public Reference Room located at 888 First Street NE., Room 2A, Washington, DC 20426, or by calling (202) 502-8371.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: August 18, 2017.
Nathaniel J. Davis, Sr.,
Deputy Secretary.

[FR Doc. 2017-17955 Filed 8-23-17; 8:45 am]

BILLING CODE 6717-01-P